DEPARTMENT OF ENERGY

Federal Energy Regulatory Commission

[Docket No. CP03-41-003]

Dominion Transmission, Inc.; Notice of Filing

March 23, 2006.

Take notice that on March 15, 2006, Dominion Transmission, Inc. (Dominion), 120 Tredegar Street, Richmond, Virginia 23219, filed an abbreviated application pursuant to section 7 of the Natural Gas Act (NGA) and Part 157 of the Commission's Rules and Regulations, seeking to clarify the nameplate horsepower ratings for the turbine engine/compressor units at Mockingbird Hill and Quantico compressor stations in Wetzel County, West Virginia and Fauquier County, Virginia, respectively. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

On September 11, 2003, the Commission issued a certificate in Docket No. CP03-41-000 authorizing Dominion to construct, install, own, operate, and maintain the Mockingbird Hill compressor station with a 5,000 nominal horsepower (HP) turbine engine/compressor unit; and the Quantico compressor station with a 6,000 nominal HP turbine engine/compressor unit. In the September 11, 2003 application, Dominion proposed to refurbish and install the units from Dominion's existing Crayne compressor station, at Mockingbird Hill and Quantico. After refurbishing, the units have the nameplate HP ratings of 5,800 HP and 6,100 HP, respectively. Dominion does not request an increase in capacity, or any other certificated level. The units were placed in service on November 1, 2004.

Any questions regarding the application are to be directed to Matthew R. Bley, Manager, Gas Transmission Certificates, Dominion Transmission, Inc., 120 Tredegar Street, Richmond, Virginia 23219; phone number (804) 819-2877.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001 (a)(1)(iii) and the instructions on the Commission's Web site under the “e-Filing” link. The Commission strongly encourages electronic filings.

Comment Date: 5 p.m. Eastern Time on April 12, 2006.

Magalie R. Salas,
Secretary.

[FR Doc. E6-4594 Filed 3-29-06; 8:45 am]

BILLING CODE 6717-01-P